DEPARTMENT OF COMMERCE

International Trade Administration

[A-570-016]

Passenger Vehicle and Light Truck Tires From the People's Republic of China: Rescission, in Part, of Antidumping Duty Administrative Review; 2019-2020

AGENCY: Enforcement and Compliance, International Trade Administration, Department of Commerce.

SUMMARY: On October 6, 2020, the Department of Commerce (Commerce) initiated an administrative review of the antidumping duty order on passenger vehicle and light truck tires (passenger tires) from the People's Republic of China (China) for 28 companies. Based on the timely withdrawal of requests for review, we are now rescinding this administrative review with respect to 21 of these companies.

DATES: Applicable January 27, 2021.

FOR FURTHER INFORMATION CONTACT: Peter Shaw or Toni Page, AD/CVD Operations, Office VII, Enforcement and Compliance, International Trade Administration, U.S. Department of Commerce, 1401 Constitution Avenue NW, Washington, DC 20230; telephone: (202) 482-0697 or (202) 482-1398, respectively.

Background

In August 2020, Commerce received multiple timely requests to conduct an administrative review of the antidumping duty order on passenger tires from China. Based upon these requests, on October 6, 2020, in accordance with section 751(a) of the Tariff Act of 1930, as amended (the Act), Commerce published a notice of initiation of an administrative review covering the period August 1, 2019 through July 31, 2020, with respect to 28 companies.¹ In October and December, 2020, the following companies withdrew their requests for an administrative review: Giti Radial Tire (Anhui) Company Ltd. (Giti Radial Anhui); Giti Tire (Fujian) Company Ltd. (Giti Fujian); Giti Tire (Hualin) Company Ltd. (Giti Hualin); Giti Tire Global Trading Pte. Ltd. (GTT); Haohua Orient International Trade Ltd. (Haohua Orient); Prinx Chengshan (Shandong) Tire Company Ltd. (PCT); Qingdao Lakesea Tyre Co., Ltd. (Lakesea); Qingdao Sentury Tire Co. Ltd. (Sentury); Riversun Industry Limited (Riversun); Safe & Well (HK) International Trading Limited (Safe & Well); Sailun Group (HongKong) Co., Limited (Sailun HK), formerly known as Sailun Jinyu Group (Hong Kong) Co., Limited (Sailun Jinyu HK); Sailun Group Co., Ltd. (Sailun Group), formerly known as Sailun Jinyu Group Co., Ltd. (Sailun Jinyu); Sailun Tire Americas Inc., formerly known as SJI North America Inc. (Sailun Americas); Sailun Tire International Corp. (Sailun International); Shandong Guofeng Rubber Plastics Co., Ltd. (Guofeng); Shandong Linglong Tyre Co., Ltd. (Linglong); Shandong New Continent Tire Co., Ltd. (New Continent); Shandong Province Sanli Tire Manufactured Co., Ltd. (Sanli); ² Shandong Wanda Boto Tyre Co., Ltd. (Boto); Shouguang Firemax Tyre Co., Ltd. (Firemax); and Windforce Tyre Co., Limited (Windforce).³

¹ Initiation of Antidumping and Countervailing Duty Administrative Reviews, 85 FR 63081 (October 6, 2020) (Initiation Notice).

² In the Initiation Notice this company was listed as Shandong Province Sanli Tire Manufacture Co., Ltd. Commerce later confirmed with counsel the correct spelling of the company's name. See Memorandum, “Antidumping Duty Administrative Review of Passenger Vehicle and Light Truck Tires from the People's Republic of China: Ex-parte Phone Call/Email with Shandong Sanli Tire Manufactured Co., Ltd.'s Counsel,” dated October 20, 2020.

³ See GTT's Letter, “Passenger Vehicle and Light Truck Tires from the People's Republic of China: Withdrawal of Request for Administrative Review,” dated October 20, 2020; see also Grunfeld, Desiderio, Lebowitz, Silverman & Klestadt LLP's Letter, “Withdrawal of Request for the Administrative Review of Antidumping Duty Order on Passenger Vehicle and Light Truck Tires (“PVLT”) from the People's Republic of China (A-570-016),” dated October 21, 2020; DeKieffer & Horgan, PLLC's Letter, “Passenger Vehicle and Light Truck Tires from the People's Republic of China: Partial Withdrawal of Request for Administrative Review,” dated December 9, 2020; Boto's Letter, “Passenger Vehicle and Light Truck Tires from the People's Republic of China: Withdrawal of Request for Administrative Review,” dated December 14, 2020; Guofeng's Letter, “Passenger Vehicle and Light Truck Tires from People's Republic of China: Withdrawal of Request for Administrative Review,” dated December 14, 2020; Firemax's Letter, “Certain Passenger Vehicle and Light Truck Tires from the People's Republic of China—Withdrawal of Request for Administrative Review,” dated December 21, 2020; and PCT's Letter, “Certain Passenger Vehicle and Light Truck Tires from the People's Republic of China—Withdrawal of Request for Administrative Review,” dated December 22, 2020.

Partial Rescission

Pursuant to 19 CFR 351.213(d)(1), Commerce will rescind an administrative review, in whole or in part, if a party who requested the review withdraws the request within 90 days of the date of publication of notice of initiation of the requested review. Giti Radial Anhui; Giti Fujian; Giti Hualin; GTT; Haohua Orient; PCT; Lakesea; Sentury; Riversun; Safe & Well; Sailun HK; Sailun Group; Sailun Americas; Sailun International; Linglong; New Continent; Sanli; Boto; Firemax; and Windforce timely withdrew their requests for an administrative review. No other party requested a review of these 20 companies. On August 31, 2020, ITG Voma Corporation (ITG Voma), a U.S. importer of passenger tires, requested a review of Guofeng.⁴ On December 14, 2020, ITG Voma withdrew their request for an administrative review on Guofeng.⁵ Accordingly, we are rescinding this review, in part, with respect to these 21 companies, pursuant to 19 CFR 351.213(d)(1).

⁴ See ITG Voma's Letter, “Passenger Vehicle and Light Truck Tires from the People's Republic of China: Request for Review—2019-2020 Review Period,” dated August 31, 2020.

⁵ See ITG Voma's Letter, “Passenger Vehicle and Light Truck Tires from the People's Republic of China: Withdrawal of Request for Administrative Review,” dated December 14, 2020.

The instant review will continue with respect to the following companies: Qingdao Fullrun Tyre Tech Corp., Ltd.; Qingdao Landwinner Tyre Co., Ltd.; Qingdao Nexen Tire Corporation; Shandong Qilun Rubber Co., Ltd., Sumitomo Rubber (Changshu) Co., Ltd.; Sumitomo Rubber (Hunan) Co., Ltd.; and Zhaoqing Junhong Co., Ltd.

Assessment

Commerce will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). Commerce intends to issue appropriate assessment instructions to CBP no earlier than 35 days after the publication of this notice in the Federal Register.

Notification to Importers

This notice serves as a reminder to importers of their responsibility under 19 CFR 351.402(f)(2) to file a certificate regarding the reimbursement of antidumping and/or countervailing duties prior to liquidation of the relevant entries during this review period. Failure to comply with this requirement could result in the presumption that reimbursement of antidumping and/or countervailing duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

Notification to Interested Parties

This notice is issued and published in accordance with sections 751 and 777(i)(l) of the Act, and 19 CFR 351.213(d)(4).

Dated: January 21, 2021.
James Maeder,
Deputy Assistant Secretary for Antidumping and Countervailing Duty Operations.

[FR Doc. 2021-01798 Filed 1-26-21; 8:45 am]

BILLING CODE 3510-DS-P